MILLENNIUM CHALLENGE CORPORATION

[MCC FR 07-05]

Notice of the June 27, 2007 Millennium Challenge Corporation Board of Directors Meeting; Sunshine Act Meeting

AGENCY: Millennium Challenge Corporation.

Time and Date: 10 a.m. to 11:45 a.m., Wednesday, June 27, 2007.

Place: Department of State, 2201 C Street, NW., Washington, DC 20520.

FOR FURTHER INFORMATION CONTACT: Information on the meeting may be obtained from Suzi M. Morris via e-mail at Board@mcc.gov or by telephone at (202) 521-3600.

Status: Meeting will be closed to the public.

Matters to be Considered: The Board of Directors (the “Board”) of the Millennium Challenge Corporation (“MCC”) will hold a meeting to discuss and consider proposed Millennium Challenge Account (“MCA”) Compacts under the provisions of Section 605(a) of the Millennium Challenge Act, codified at 22 U.S.C. 7704(a); a Threshold Country Program submission for FY 2007 MCA assistance under Section 616 of the Millennium Challenge Act of 2003 (the “Act”) codified at 22 U.S.C. 7715; Compact and Threshold Program issues; and certain administrative matters.

The agenda items are expected to involve the discussion of classified information and the meeting will be closed to the public.

Dated: June 15, 2007.
William G. Anderson, Jr.,
Vice President and General Counsel.

[FR Doc. 07-3044 Filed 6-15-07; 2:35 pm]

BILLING CODE 9211-03-P